DEPARTMENT OF DEFENSE

Department of the Air Force

Notice of Intent To Grant an Exclusive Patent License

AGENCY: Air Force Materiel Command, Department of the Air Force.

ACTION: Notice of intent.

SUMMARY: Pursuant to the provisions of Part 404 of Title 37, Code of Federal Regulations, which implements Public Law 96-517, as amended; the Department of the Air Force announces its intention to grant Battle Sight Technology, LLC of Germantown, OH, a partial exclusive license to practice the invention in any right, title and interest the Air Force has in: U.S. Patent No. 8,137,597 issued on 20 March 2012 entitled “ONE-PART, PRESSURE ACTIVATED CHEMILUMINESCENT MATERIAL,” by Dr. Lawrence Brott.

DATES: Written Objections must be filed no later than fifteen (15) calendar days after the date of the publication of this Notice.

ADDRESSES: Submit written objections to the Air Force Materiel Command Law Office, AFMCLO, 2240 B Street, Rm. 204, Wright-Patterson AFB, OH 45433-7109; Facsimile: (937) 255-3733.

FOR FURTHER INFORMATION CONTACT: Air Force Materiel Command Law Office, AFMCLO, 2240 B Street, Rm. 204, Wright-Patterson AFB, OH 45433-7109.

SUPPLEMENTARY INFORMATION: The Department of the Air Force intends to grant a license for the patent and pending applications unless a written objection is received within fifteen (15) calendar days from the date of publication of this Notice. Written objection should be sent to: Air Force Materiel Command Law Office, AFMCLO/JAZ, 2240 B Street, Rm. 204, Wright-Patterson AFB, OH 45433-7109; Facsimile: (937) 255-3733.

Henry Williams,
Acting Air Force Federal Register Liaison Officer.

[FR Doc. 2017-22476 Filed 10-16-17; 8:45 am]

BILLING CODE 5001-10-P